DEPARTMENT OF TRANSPORTATION

Federal Aviation Administration

14 CFR Part 39

[Docket No. FAA-2023-2144; Project Identifier MCAI-2023-00898-T; Amendment 39-22683; AD 2024-04-04]

RIN 2120-AA64

Airworthiness Directives; Airbus SAS Airplanes

AGENCY: Federal Aviation Administration (FAA), DOT.

ACTION: Final rule.

SUMMARY: The FAA is superseding Airworthiness Directive (AD) 2018-14-09, which applied to certain Airbus SAS Model A318 series airplanes; Model A319 series airplanes; Model A320-211, -212, -214, -216, -231, -232, and -233 airplanes; and Model A321-111, -112, -131, -211, -212, -213, -231, and -232 airplanes. AD 2018-14-09 required repetitive inspections for cracking of the fastener holes in certain fuselage frames, and depending on airplane configuration, provides an optional terminating action to the repetitive inspections. This AD was prompted by reports of early cracking on the four holes of the crossbeam splicing at certain fuselage frames (FR). This AD continues to require the actions in AD 2018-14-09 at modified compliance times, requires further inspections, and provides optional terminating actions for certain airplanes; as specified in European Union Aviation Safety Agency (EASA) AD, which is incorporated by reference. The FAA is issuing this AD to address the unsafe condition on these products.

DATES: This AD is effective April 22, 2024.

The Director of the Federal Register approved the incorporation by reference of a certain publication listed in this AD as of April 22, 2024.

ADDRESSES:

AD Docket: You may examine the AD docket at regulations.gov under Docket No. FAA-2023-2144; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material that is incorporated by reference at the FAA, Airworthiness Products Section, Operational Safety Branch, 2200 South 216th St., Des Moines, WA. For information on the availability of this material at the FAA, call 206-231-3195. It is also available in the AD docket at regulations.gov under Docket No. FAA-2023-2144.

FOR FURTHER INFORMATION CONTACT: Timothy Dowling, Aviation Safety Engineer, FAA, 1600 Stewart Avenue, Suite 410, Westbury, NY 11590; telephone 817-222-5102; email timothy.p.dowling@faa.gov.

SUPPLEMENTARY INFORMATION:

Background

The FAA issued a notice of proposed rulemaking (NPRM) to amend 14 CFR part 39 to supersede AD 2018-14-09, Amendment 39-19329 (83 FR 34034, July 19, 2018) (AD 2018-14-09). AD 2018-14-09 applied to certain Airbus SAS Model A318 series airplanes; Model A319 series airplanes; Model A320-211, -212, -214, -216, -231, -232, and -233 airplanes; and Model A321-111, -112, -131, -211, -212, -213, -231, and -232 airplanes. AD 2018-14-09 required repetitive inspections for cracking of the fastener holes in certain fuselage frames, and depending on airplane configuration, provides an optional terminating action to the repetitive inspections. The FAA issued AD 2018-14-09 to address cracking at two upper rows of fasteners of the crossbeam splicing at frame (FR)16 and FR20, on both the left-hand (LH) and right-hand (RH) sides, which can result in reduced structural integrity of the airplane due to the failure of structural components.

The NPRM published in the Federal Register on November 6, 2023 (88 FR 76147). The NPRM was prompted by AD 2023-0150, dated July 20, 2023 (EASA AD 2023-0150) (also referred to as the MCAI), issued by EASA, which is the Technical Agent for the Member States of the European Union. The MCAI states that repetitive inspections were instituted due to reports of cracks on the four holes of the crossbeam splicing at FR16 and FR20 on both LH and RH sides. Following further assessments, the need was determined for additional inspections, reduced compliance times, and an additional terminating action option.

In the NPRM, the FAA proposed to continue to require repetitive inspections for cracking of the fastener holes in certain fuselage frames, and depending on airplane configuration, to provide an optional terminating action to the repetitive inspections, as specified in EASA AD 2023-0150. The FAA is issuing this AD to address the unsafe condition on these products.

You may examine the MCAI in the AD docket at regulations.gov under Docket No. FAA-2023-2144.

Discussion of Final Airworthiness Directive

Comments

The FAA received comments from American Airlines and United Airlines. The following presents the comments received on the NPRM and the FAA's response.

Request To Allow Previously Issued Alternative Methods of Compliance (AMOCs)

American Airlines and United Airlines requested that the proposed AD be changed to allow the use of previously issued AMOCs including global AMOC AIR-731-23-00448, dated September 19, 2023, for certain actions of AD 2018-14-09 that are retained in this AD.

The FAA agrees and has redesignated paragraph (j)(1) of the proposed AD as paragraphs (j)(1) and (j)(1)(i) of this AD and has added paragraph (j)(1)(ii) of this AD to allow the use of applicable previously issued AMOCs.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

EASA AD 2023-0150 specifies procedures for repetitive rototest inspections for cracking of the holes in certain fuselage frames and crossbeams and applicable corrective actions (including repairing cracking and replacing fasteners); and, for certain airplanes, procedures for modifying the airplane, including cold working instructions in certain fuselage frames and crossbeams, which would terminate the inspections (optional terminating action). This material is reasonably available because the interested parties have access to it through their normal course of business or by the means identified in the ADDRESSES section.

Costs of Compliance

The FAA estimates that this AD affects 1,680 airplanes of U.S. registry. The FAA estimates the following costs to comply with this AD:

Estimated Costs for Required Actions
Action | Labor cost | Parts cost | Cost per product | Cost on U.S. operators
Retained actions from AD 2018-14-09 | 31 work-hours × $85 per hour = $2,635 | $0 | $2,635 | $4,426,800

Estimated Costs for Optional Actions
Labor cost | Parts cost | Cost per product
28 work-hours × $85 per hour = $2,380 | $3,020 | $5,400

The FAA estimates the following costs to do any necessary on-condition actions that would be required based on the results of any required or optional actions. The FAA has no way of determining the number of aircraft that might need this on-condition action:

Estimated Costs of On-Condition Replacements
Labor cost | Parts cost | Cost per product
14 work-hours × $85 per hour = $1,190 | $50 | $1,240

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-14-09, Amendment 39-19329 (83 FR 34034, July 19, 2018); and

b. Adding the following new AD:

2024-04-04 Airbus SAS: Amendment 39-22683; Docket No. FAA-2023-2144; Project Identifier MCAI-2023-00898-T.

(a) Effective Date

This airworthiness directive (AD) is effective April 22, 2024.

(b) Affected ADs

This AD replaces AD 2018-14-09, Amendment 39-19329 (83 FR 34034, July 19, 2018) (AD 2018-14-09).

(c) Applicability

This AD applies to Airbus SAS Model A318-111, -112, -121, and -122 airplanes; Model A319-111, -112, -113, -114, -115, -131, -132, and -133 airplanes; Model A320-211, -212, -214, -216, -231, -232, and -233 airplanes; and Model A321-111, -112, -131, -211, -212, -213, -231, and -232 airplanes; certificated in any category, all manufacturer serial numbers, except the airplanes specified in paragraphs (c)(1) through (3) of this AD.

(1) Airplanes on which Airbus SAS modification 161255 has been embodied in production.

(2) Model A319 series airplanes on which Airbus SAS modifications 28238, 28162, and 28342 have been concurrently embodied in production.

(3) Model A318 series airplanes on which Airbus SAS modification 39195 has been embodied in production.

(d) Subject

Air Transport Association (ATA) of America Code 53, Fuselage.

(e) Unsafe Condition

This AD was prompted by reports of early cracking on the four holes of the crossbeam splicing at certain fuselage frames (FR). The FAA is issuing this AD to address cracking at two upper rows of fasteners of the crossbeam splicing at FR16 and FR20, on both the left-hand (LH) and right-hand (RH) sides. The unsafe condition, if not addressed, could result in reduced structural integrity of the airplane due to the failure of structural components.

(f) Compliance

Comply with this AD within the compliance times specified, unless already done.

(g) Requirements

Except as specified in paragraph (h) of this AD: Comply with all required actions and compliance times specified in, and in accordance with, European Union Aviation Safety Agency (EASA) AD 2023-0150, dated July 20, 2023 (EASA AD 2023-0150).

(h) Exceptions to EASA AD 2023-0150

(1) Where EASA AD 2023-0150 refers to “28 July 2016 [the effective date of EASA AD 2016-0139],” this AD requires using August 23, 2018 (the effective date of AD 2018-14-09).

(2) Where EASA AD 2023-0150 refers to its effective date, this AD requires using the effective date of this AD.

(3) Where rows B and C of the “Threshold” column in Table 1 of EASA AD 2023-0150 refer to “54 800 FH,” for this AD, replace that text with “54 900 FH.”

(4) Where paragraph (5) of EASA AD 2023-0150 refers to “valid within the EASA system,” for this AD, replace that text with “approved by the FAA, EASA, Airbus SAS's EASA Design Organization Approval (DOA), or an EASA DOA (other than Airbus SAS's EASA DOA).”

(5) Where paragraph (5) of EASA AD 2023-0150 specifies “contact that design approval holder (DAH) for assessment and repair instructions, obtain EASA AMOC approval and accomplish those instructions accordingly, as applicable,” for this AD, replace that text with “modify the repair using a method approved by the Manager, International Validation Branch, FAA; or EASA; or Airbus SAS's EASA DOA. If approved by the DOA, the approval must include the DOA-authorized signature.”

(6) Where the service information referenced in paragraphs (8) and (9) of EASA AD 2023-0150 refers to actions when an existing hole diameter is “more than or equal to the minimum starting hole diameter,” for this AD, replace that text with “more than or equal to the maximum starting hole diameter.”

(7) This AD does not adopt the “Remarks” section of EASA AD 2023-0150.

(i) No Reporting Requirement

Although the service information referenced in EASA AD 2023-0150 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov.

(i) Before using any approved AMOC, notify your appropriate principal inspector, or lacking a principal inspector, the manager of the responsible Flight Standards Office.

(ii) AMOCs approved previously for AD 2018-14-09 are approved as AMOCs for the corresponding provisions of EASA AD 2023-0150 that are required by paragraph (g) of this AD.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraphs (i) and (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Timothy Dowling, Aviation Safety Engineer, FAA, 1600 Stewart Avenue, Suite 410, Westbury, NY 11590; telephone 817-222-5102; email timothy.p.dowling@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2023-0150, dated July 20, 2023.

(ii) [Reserved]

(3) For EASA AD 2023-0150, contact EASA, Konrad-Adenauer-Ufer 3, 50668 Cologne, Germany; telephone +49 221 8999 000; email ADs@easa.europa.eu; website easa.europa.eu. You may find this EASA AD on the EASA website at ad.easa.europa.eu.

(4) You may view this material that is incorporated by reference at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on March 11, 2024.
Victor Wicklund,
Deputy Director, Compliance & Airworthiness Division, Aircraft Certification Service.

[FR Doc. 2024-05494 Filed 3-15-24; 8:45 am]

BILLING CODE 4910-13-P